LEGAL SERVICES CORPORATION

Sunshine Act Meetings of the Board of Directors Operations and Regulations Committee

Time and Date: The Legal Services Corporation Board of Directors Operations and Regulations Committee will meet April 1, 2005, at 9 a.m.

Location: Caddell Conference Room, Slaughter Hall, 3rd Floor, University of Virginia School of Law, 580 Massie Road, Charlottesville, Virginia.

Status of Meetings: Open.

Matters to be Considered:

Open Session

1. Approval of agenda.

2. Consider and act on Notice of Proposed Rulemaking on Financial Eligibility, 45 CFR part 1611.

a. Staff report;

b. OIG's report; and

c. Public comment.

3. Other public comment.

4. Consider and act on other business.

5. Consider and act on adjournment of meeting.

Contact Person for Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: March 23, 2005.
Victor M. Fortuno,
Vice President for Legal Affairs, General Counsel & Corporate Secretary.

[FR Doc. 05-6076 Filed 3-23-05; 2:57 pm]

BILLING CODE 7050-01-P